DEPARTMENT OF THE INTERIOR

National Park Service

[NPS-WASO-NRNHL-21118; PPWOCRADI0, PCU00RP14.R50000]

National Register of Historic Places; Notification of Pending Nominations and Related Actions

AGENCY: National Park Service, Interior.

ACTION: Notice.

SUMMARY: The National Park Service is soliciting comments on the significance of properties nominated before May 14, 2016, for listing or related actions in the National Register of Historic Places.

DATES: Comments should be submitted by June 17, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION:

The properties listed in this notice are being considered for listing or related actions in the National Register of Historic Places. Nominations for their consideration were received by the National Park Service before May 14, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ALABAMA

Colbert County

Florence, Alabama Music Enterprises (FAME) Recording Studios, 603 Avalon Ave., Muscle Shoals, 16000397

Conecuh County

Evergreen School, 100 City School Dr., Evergreen, 16000398

Jefferson County

North Lakeview Industrial District, 2801-3211 2nd & 2810-3130 3rd Aves. S., 216-31 29th, 130 30th, 230 31st & 205 32nd Sts., S., Birmingham, 16000399

Mobile County

Automobile Alley Historic District, 156-157 N. Cedar, 108 N. Dearborn, 100-101 N. Franklin, 156 N. Hamilton, 163 N. Lawrence, 453-701 St. Anthony Sts., Mobile, 16000400

ALASKA

Juneau Borough-Census Area

X'unaxi, Address Restricted, Juneau, 16000401

ARKANSAS

Carroll County

Berryville Commercial Historic District, Public Square, Berryville, 16000402

KANSAS

Atchison County

Martin, John A., Grade School, (Public Schools of Kansas MPS) 507 Division, Atchison, 16000403

Brown County

Iowa Tribe Community Building, (New Deal-Era Resources of Kansas MPS) 330th Rd., White Cloud, 16000404

Neosho County

Oak Grove School, District 20, (Public Schools of Kansas MPS) 20505 20th Rd., St. Paul, 16000405

Scott County

Steele, Herbert and Eliza, House, W. Scott Lake Dr., Scott City, 16000406

Sedgwick County

Colorado—Derby Building, 201 N. Water St., Wichita, 16000407

MARYLAND

Caroline County

Chambers Park Log Cabin, Liberty Rd., Federalsburg, 16000408

MASSACHUSETTS

Suffolk County

Francis Street—Fenwood Road Historic District, Roughly bounded by Huntington Ave., Francis, Vining & Fenwood Sts., St. Albans Rd., Boston, 16000409

MICHIGAN

Kalamazoo County

Fountain of the Pioneers, (Kalamazoo MRA) Bronson Park, bounded by Academy, Rose, South & Park Sts., Kalamazoo, 16000417

MONTANA

Blaine County

Ervin Homestead—Gist Bottom Historic District, River Mile 122.3 Left, Hays, 16000410

NEW YORK

Columbia County

Columbia Turnpike East Tollhouse, NY 23, Hillsdale, 16000411

Rensselaer County

Methodist Episcopal Church of Lansingburgh, 600 3rd Ave., Lansingsburgh, 16000412

OREGON

Josephine County

Grey, Zane, Cabin, N. bank of Rogue R., Galice, 16000413

SOUTH CAROLINA

Berkeley County

Gippy Plantation, 366 Avenue of Oaks, Moncks Corner, 16000414

SOUTH DAKOTA

Clay County

Bluff Historic District, Oak Pl., Court, Kidder, Church & Bloomingdale Sts., Vermillion, 16000415

TENNESSEE

Davidson County

Fire Hall for Engine Company No. 18, 1220 Gallatin Ave., Nashville, 16000416

UTAH

Salt Lake County

Bourne, Ernie and Irmgard, House, (Mount Olympus—Millcreek Community MPS) 3460 E. Ranch View Dr., Millcreek Township, 16000418

Butler, Donald and Erma, House, (Mount Olympus—Millcreek Community MPS) 3450 E. Ranch View Dr., Millcreek Township, 16000419

Fish—Baughman House, (Mount Olympus—Millcreek Community MPS) 3436 E. Ranch View Dr., Millcreek Township, 16000420

WISCONSIN

Sheboygan County

Downtown Plymouth Historic District, Generally bounded by the 100, 200, 300 & 400 blks. of E. Mill St., Plymouth, 16000421

Authority: 60.13 of 36 CFR part 60

Dated: May 18, 2016.
J. Paul Loether,
Chief, National Register of Historic Places/National Historic Landmarks Program.

[FR Doc. 2016-12982 Filed 6-1-16; 8:45 am]

BILLING CODE 4312-51-P